DEPARTMENT OF DEFENSE

Office of the Secretary

[Transmittal No. 23-0H]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0H.

Dated: October 15, 2024.
Aaron T. Siegel,
Alternate OSD Federal Register Liaison Officer, Department of Defense.

BILLING CODE 6001-FR-P

Transmittal No. 23-0H

Report of Enhancement or Upgrade of Sensitivity of Technology or Capability (Sec. 36(b)(5)(c), AECA)

(i) Purchaser: Government of Jordan

(ii) Sec. 36(b)(1), AECA Transmittal No.: 22-06

Date: February 3, 2022

Implementing Agency: Air Force

Funding Source: Foreign Military Financing (FMF)

(iii) Description: On February 3, 2022, Congress was notified by congressional certification transmittal number 22-06 of the possible sale, under Section 36(b)(1) of the Arms Export Control Act, to the Government of Jordan of twelve (12) F-16 C Block 70 Aircraft; four (4) F-16 D Block 70 Aircraft; twenty-one (21) F100-GE-129D Engines or F100-PW229EEP Engines (16 installed, 5 spares); twenty-one (21) Improved Programmable Display Generators (iPDG) (16 installed, 5 spares); twenty-one (21) AN/APG-83 Active Electronically Scanned Array (AESA) Scalable Agile Beam Radars (SABR) (16 installed, 5 spares); twenty-one (21) Modular Mission Computers (MMC) 7000AH (16 installed, 5 spares); twenty-seven (27) LN-260 (or equivalent) Embedded Global Positioning System (GPS) Inertial Navigation Systems (INS) (EGI) with Selective Availability Anti-Spoofing Module (SAASM) and Precise Positioning Service (PPS) (16 installed, 11 spares); six (6) AN/AAQ-33 Sniper Advanced Targeting Pods (ATP); thirty-one (31) Link 16 Low-Volume Terminals (for aircraft and ground stations) (26 installed, 5 spares); seventy-two (72) LAU-129 launchers (64 installed, 8 spares); twenty-one (21) M61A1 Vulcan Cannons (16 installed, 5 spares); four hundred two (402) FMU-139 or FMU-152 Joint Programmable Fuzes; one hundred (100) KMU-556 Joint Direct Attack Munition (JDAM) tail kits for 2,000LB GBU-31; one hundred two (102) KMU-572 JDAM tail kits for 500LB Laser JDAM GBU-54; one hundred (100) MAU-209 Computer Control Group (CCG) for Paveway II (PWII) GBU-10; one hundred two (102) MXU-651 Air Foil Group (AFG) for 2000LB PWII GBU-10; one hundred (100) MAU-210 Enhanced Computer Control Group (ECCG) for 500LB Enhanced Paveway II (EP II) EGBU-49; one hundred three (103) MXU-650 Air Foil Group (AFG) for 2000LB EP II EGBU-49; two hundred (200) MK-84 or BLU-117 (or equivalent) bomb bodies; two hundred four (204) MK-82 or BLU-111 (or equivalent) bomb bodies; six (6) MK-82 inert bombs; and two (2) MAU-169 Computer Control Group (CCG) trainers. Also included were AN/ARC-238 radios; AN/APX-126 or equivalent Advanced Identification Friend or Foe (AIFF) with Combined Interrogator Transponder (CIT); Joint Helmet Mounted Cueing System II (JHMCS II) or Scorpion Hybrid Optical-based Inertial Tracker (HObIT) helmet mounted displays; AN/ALQ-254 Viper Shield or equivalent Integrated Electronic Warfare (EW) systems; AN/ALE-47 Countermeasure Dispenser System (CMDS); KY-58M Cryptographic Devices; KIV-78 Cryptographic Devices; Simple Key Loaders (SKL); Joint Mission Planning System (JMPS) or equivalent; PGU-28 High Explosive Incendiary (HEI) ammunition; PGU-27 training ammunition (non-HEI); ARD-446 impulse cartridges; ARD-863 impulse cartridges BBU-36 impulse cartridges; BBU-35 impulse cartridges; MK-124 smoke flares; MJU-7/B flare cartridges L463 or MJU-53 or equivalent; Common Munitions Built-in-Test (BIT) Reprogramming Equipment (CMBRE); ADU-891 adapters for CMBRE; DSU-38 laser sensors for Laser JDAM GBU-54; Cartridge Actuated Device/Propellant Actuated Devices (CAD/PAD); BRU‐57 bomb racks; MAU‐12 bomb racks and TER‐9A triple ejection racks; other chaff and flare, ammunition, and pylons; launcher adaptors and weapons interfaces; fuel tanks and attached hardware; travel pods; aircraft and weapons integration, test, and support equipment; electronic warfare database and mission data file development; precision measurement and calibration laboratory equipment; secure communications; cryptographic equipment; precision navigation equipment; aircraft and personnel support and test equipment; spare and repair parts; repair and return services; maps, publications, and technical documentation; studies and surveys; classified/unclassified software and software support; personnel training and training equipment; facilities and facility management, design and/or construction services; U.S. Government and contractor engineering, technical and logistics support services; and other related elements of logistical and program support. The estimated total cost was $4.21 billion. Major Defense Equipment (MDE) constituted $2.39 billion of this total.

On September 27, 2022, Congress was notified by congressional certification transmittal number 22-0L of the addition of the following MDE items: thirty-one (31) Multifunctional Information Distribution Systems with Joint Tactical Radio Systems (MIDS JTRS); thirty-two (32) AIM-9X Block II Sidewinder missiles; twenty (20) AIM-9X Block II Sidewinder Captive Air Training Missiles (CATM); four (4) AIM-9X Block II Sidewinder tactical guidance units; and four (4) AIM-9X Block II Sidewinder CATM guidance units. Also, this transmittal reports a correction to the previously notified “twenty-one (21) F100-GE-129D Engines or F100-PW229EEP Engines (16 installed, 5 spares)” to “twenty-one (21) F110-GE-129D Engines or F100-PW229EEP Engines (16 installed, 5 spares);” there is currently no GE aircraft engine designated as F100. The total net cost of MDE increased by $0.06 billion to $2.45 billion. The estimated total case value increased to $4.27 billion.

This transmittal notifies the possible replacement of up to four (4) of the previously notified F-16 C Block 70 aircraft with up to four (4) F-16 D Block 70 aircraft. The total number of F-16 Block 70 aircraft in the potential sale does not change remaining sixteen (16). The F-16 D replacements will result in a net increase in MDE value of $0.03 billion, resulting in a revised MDE value of $2.48 billion. The total estimated case value will increase to $4.30 billion.

(iv) Significance: This notification is being provided as the replacement MDE items were not enumerated in the original notification. The proposed articles will improve Jordan's ability to train its F-16 Block 70 pilots while continuing modernization of the Jordanian fighter aircraft fleet and supporting operational requirements associated with regional U.S.-coalition goals.

(v) Justification: This proposed sale will support the foreign policy and national security objectives of the United States by helping to improve the security of a Major Non-NATO Ally that is an important force for political stability and economic progress in the Middle East.

(vi) Sensitivity of Technology: The Sensitivity of Technology Statement contained in the original notification applies to items reported here.

The highest level of classification of defense articles, components, and services included in this potential sale is SECRET.

(vii) Date Report Delivered to Congress: July 19, 2023.

[FR Doc. 2024-24122 Filed 10-17-24; 8:45 am]

BILLING CODE 6001-FR-C